FEDERAL COMMUNICATIONS COMMISSION

[OMB 3060-XXXX; FR ID 51257]

Information Collection Being Reviewed by the Federal Communications Commission

AGENCY: Federal Communications Commission.

ACTION: Notice and request for comments.

SUMMARY: As part of its continuing effort to reduce paperwork burdens, and as required by the Paperwork Reduction Act (PRA) of 1995, the Federal Communications Commission (FCC or the Commission) invites the general public and other Federal agencies to take this opportunity to comment on the following information collection. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid control number. No person shall be subject to any penalty for failing to comply with a collection of information subject to the PRA that does not display a valid Office of Management and Budget (OMB) control number.

DATES: Written PRA comments should be submitted on or before December 6, 2021. If you anticipate that you will be submitting comments, but find it difficult to do so within the period of time allowed by this notice, you should advise the contact listed below as soon as possible.

ADDRESSES: Direct all PRA comments to Nicole Ongele, FCC, via email PRA@fcc.gov and to nicole.ongele@fcc.gov.

FOR FURTHER INFORMATION CONTACT: For additional information about the information collection, contact Nicole Ongele, (202) 418-2991.

SUPPLEMENTARY INFORMATION: OMB Control Number: 3060-XXXX.

Title: Inmate Calling Services, 2021 One-Time Data Collection.

Form Number(s): FCC Form 2302(a) and FCC Form 2302(b).

Type of Review: New collection.

Respondents: Business or other for-profit.

Number of Respondents and Responses: 20 respondents; 20 responses.

Estimated Time per Response: 245 hours on average.

Frequency of Response: One-time reporting requirement.

Obligation to Respond: Required to obtain or retain benefits. Statutory authority for this collection of information is contained in sections 1, 4(i)-4(j), 201(b), 218, 220, 225, 255, 276, 403, and 617 of the Communications Act of 1934, as amended, 47 U.S.C. 151, 154(i)-(j), 201(b), 218, 220, 225, 255, 276, 403 and 617.

Total Annual Burden: 4,900 hours.

Total Annual Cost: No cost.

Privacy Act Impact Assessment: No impact(s).

Nature and Extent of Confidentiality: The Protective Order in the Commission's inmate calling services (ICS) proceeding, WC Docket 12-375, 28 FCC Rcd 16954 (WCB 2013), provides confidential treatment for the proprietary information submitted by (ICS providers in response to the Commission's directives. The Commission will treat as presumptively confidential any particular information identified as confidential by the provider in accordance with the Freedom of Information Act and Commission rules. Each confidential document should be stamped and submitted to the Secretary's Office with an accompanying cover letter, as specified by the Protective Order.

Needs and Uses: In the 2021 ICS Order, WC Docket No. 12-375, FCC 21-60, 86 FR 40682, the Commission continued its reform of the ICS industry by, among other things, directing the Commission's Wireline Competition Bureau (WCB) and Office of Economics and Analytics (OEA) (collectively, WCB/OEA) to collect data and other information regarding ICS providers' operations, costs, demands, and revenues. The Commission explained that it would use this Third Mandatory Data Collection to set permanent interstate and international ICS provider-related rate caps that more closely reflect providers' costs of serving correctional facilities. The Commission also emphasized that those data would enable it to evaluate and, if warranted, revise the current ancillary service charge caps.

The Commission delegated authority to WCB/OEA to implement the Third Mandatory Data Collection—including determining and describing the types of information to require providers to submit regarding their operations, costs, demand, and revenues—and directed WCB/OEA to develop a template and instructions for the collection.

Pursuant to their delegated authority, WCB/OEA drafted proposed instructions, a template, and a certification form for the Third Mandatory Data Collection. See Third Mandatory Data Collection Instructions, available for download at http://www.fcc.gov/sites/default/files/third_mandatory_data_collection_instructions.docx. Under WCB/OEA's proposals, ICS providers would be required to submit the required data using a reporting template, to be filed through the Commission's electronic comment filing system (ECFS). The proposed template consists of a Word document (Appendix A to the instructions) for responses requiring narrative information and Excel spreadsheets (Appendix B to the instructions) for responses that require specific numbers or information. ICS providers must also submit an audited financial statement or report for each Year from 2019 through 2021, and a signed certification of truthfulness, accuracy, and completeness. The instructions, template, and certification form will simplify compliance with, and reduce the burden of, this data collection. These proposed documents will be submitted for approval by the Office of Management and Budget as FCC Form 2302(a) and FCC Form 2302(b).

On September 22, 2021, WCB/OEA issued a Public Notice seeking comment on all aspects of the proposed collection, including the draft instructions, template, and certification form. Notice of this document is being published elsewhere in this issue of the Federal Register. WCB/OEA will consider comments submitted in response to both of these Federal Register documents in finalizing this information collection prior to submitting the documents to the Office of Management and Budget.

Federal Communications Commission.
Marlene Dortch,
Secretary, Office of the Secretary.

[FR Doc. 2021-21782 Filed 10-4-21; 8:45 am]

BILLING CODE 6712-01-P